DEPARTMENT OF HOUSING AND URBAN DEVELOPMENT

[Docket No. FR-5477-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D DC).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2100 Second St., SW., Stop 7901, Washington, DC 20593-0001; (202) 475-5609 Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1801 Pennsylvania Ave, NW., 4th Floor, Washington, DC 20006: (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: April 28, 2011.
Mark R. Johnston,
Deputy Assistant Secretary for Special Needs.

TITLE V, FEDERAL SURPLUS PROPERTY PROGRAM FEDERAL REGISTER REPORT FOR 05/06/2011

Suitable/Available Properties

Building

Kansas

MKC Outer Marker FAA Site

Generally South of 2400 Steele Road

Kansas City KS 64106

Landholding Agency: GSA

Property Number: 54201120007

Status: Surplus

GSA Number: 7-U-KS-0525

Comments: 60 sq. ft., current use: support building, public road easement

Ohio

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Texas

Rattle Snake Scoring Ste.

1085 County Rd. 332

Pecos TX 79772

Landholding Agency: GSA

Property Number: 54201120005

Status: Excess

GSA Number: 7-D-TX-0604-AM

Comments: 8,396 sq. ft., most recent use: training site, previously reported by Air Force and deemed “unsuitable” because property was in a secured area and published in May 2009.

Unsuitable Properties

Building

Florida

Carpenter Storage Bldg.

600 8th Ave. S.E.

U.S.C.G. Station

St. Petersburg FL

Landholding Agency: Coast Guard

Property Number: 88201120003

Status: Unutilized

Reasons: Secured Area, Extensive deterioration

Massachusetts

4 Bldgs

USCG

Bourne MA 02542

Landholding Agency: Coast Guard

Property Number: 88201120002

Status: Excess

Directions: 5300, 5311, 5314, 5690

Reasons: Extensive deterioration

Michigan

ANT Admin Office/Storage

2509 Seminole Drive

Sault Ste Marie MI 49783

Landholding Agency: Coast Guard

Property Number: 88201120001

Status: Excess

Reasons: Secured Area, Extensive deterioration

Mississippi

NATR R-126-16 House, Barn

571 Palmetto Road

Tupelo MS 38801

Landholding Agency: Interior

Property Number: 61201120003

Status: Unutilized

Reasons: Extensive deterioration

New Mexico

10 Bldgs.

NSA

Los Alamos NM 87545

Landholding Agency: Energy

Property Number: 41201120001

Status: Excess

Directions: 15-0041, 15-0045, 15-0186, 15-0199, 15-0200, 15-0201, 15-0233, 15-0310, 15-0477, 15-0468

Reasons: Secured Area, Within airport runway clear zone

Pennsylvania

Bldg. 40 Qtr. A

NSA

Philadelphia PA

Landholding Agency: Navy

Property Number: 77201120001

Status: Excess

Reasons: Secured Area

Washington

Bldgs. 7 and 65

Naval Station Everett

Jim Creek Rd.

Arlington WA 98223

Landholding Agency: Navy

Property Number: 77201120002

Status: Excess

Reasons: Secured Area, Extensive deterioration

[FR Doc. 2011-10792 Filed 5-5-11; 8:45 am]

BILLING CODE 4210-67-P